CONSUMER PRODUCT SAFETY COMMISSION

Sunshine Act Meeting

TIME AND DATE: Wednesday, November 1, 2023-10:00 a.m.

PLACE: Room 420, 4330 East West Highway, Bethesda, Maryland 20814.

STATUS: Closed to the Public.

MATTERS TO BE CONSIDERED: Briefing Matter: Closed meeting topic.

CONTACT PERSON FOR MORE INFORMATION: Alberta E. Mills, Office of the Secretary, U.S. Consumer Product Safety Commission, 4330 East West Highway, Bethesda, MD 20814, 301-504-7479 (Office) or 240-863-8938 (Cell).

Dated: October 25, 2023.
Alberta E. Mills,
Commission Secretary.

[FR Doc. 2023-23956 Filed 10-26-23; 11:15 am]

BILLING CODE 6355-01-P